FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201299.

Agreement Name: Sealand/GWF Reciprocal Slot Charter Agreement.

Parties: Maersk Line A/S DBA Sealand and Great White Fleet Liner Services Ltd.

Filing Party: Wayne Rohde; Cozen O'Connor.

Synopsis: The Agreement authorizes the parties to charter space to/from one another in the trade between the Atlantic Coast of Florida and the U.S. Gulf Coast on the one hand and ports in Guatemala, Honduras, Costa Rica, and Panama on the other hand.

Proposed Effective Date: 6/15/2019.

Location: https://www2.fmc.gov/FMC.Agreements.Web/Public/AgreementHistory/22394.

Agreement No.: 201300.

Agreement Name: CMA CGM/Marfret Vessel Sharing Agreement Mediterranean—Caribbean/U.S. Gulf.

Parties: Compagnie Maritime Marfret S.A.S. and CMA CGM S.A.

Filing Party: Draughn Arbona; CMA CGM (America) LLC.

Synopsis: The Agreement authorizes CMA CGM and Marfret to cooperate on the provision of a weekly liner service in the Trade between Italy, France, Spain, the French Indies, the Dominican Republic, Colombia, Mexico, Costa Rica, Panama and the U.S. Gulf Coast.

Proposed Effective Date: 5/6/2019.

Location: https://www2.fmc.gov/FMC.Agreements.Web/Public/AgreementHistory/22395.

Dated: May 7, 2019.
Rachel Dickon,
Secretary.

[FR Doc. 2019-09694 Filed 5-9-19; 8:45 am]

BILLING CODE 6731-AA-P